DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 26, 2017.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on September 29, 2017.
Donald Burger,
Chief, General Approvals and Permits Branch.

Special Permits Data
Application No. | Docket No. | Applicant | Regulation(s) affected | Nature of the special permits thereof
11932-M |  | THE BOEING COMPANY | 172.301(c), 173.168(b), 173.168(d), 173.168(d)(1)(i), 173.168(f)(2)(ii) | To modify the permit to authorize an additional drawings and designs for modified aircraft sub-assemblies. (Mode 1).
14424-M |  | CHART, INC | 177.834(h) | To modify the special permit to authorize the use of a larger pressure vessel as part of a truck or trailer mounted refrigerated liquid gas (cryogenic) delivery unit. (Mode 1).
15647-M |  | FIBA TECHNOLOGIES, INC | 179.7, 180.505, 180.519(b)(6) | To modify the special permit to authorize visual inspection for certain tanks rather than hydrostatic testing. (Modes 1, 2).
20297-M |  | CODYSALES, INC | 172.203(a), 172.301(c), 173.302a(b), 180.205 | To modify the special permit to authorize the addition of Class 5.1 hazmat, to modify testing requirement for cylinders made of 6351 aluminum alloy, and to revise language in paragraph 7 for clarity. (Modes 1, 2, 3, 4, 5).
20356-M |  | TESLA, INC | 172.101(j) | To modify the special permit to authorize an increase in the number of cells which make up a battery module. (Mode 4).
14832-M |  | TRINITY INDUSTRIES, INC | 172.203(a), 173.31(e)(2)(iii), 179.100-12(c) | To modify the special permit to authorize an additional toxic by inhalation material. (Mode 2).

[FR Doc. 2017-21848 Filed 10-10-17; 8:45 am]

BILLING CODE 4901-60-P